DEPARTMENT OF THE INTERIOR

Bureau of Land Management

[LLWO260000.L10600000.PC0000.LXSIADVSBD00.20X]

Virtual Wild Horse and Burro Advisory Board Meeting

AGENCY: Bureau of Land Management, Interior.

ACTION: Notice of meeting.

SUMMARY: In accordance with the Federal Land Policy and Management Act of 1976 and the Federal Advisory Committee Act of 1972, the U.S. Department of the Interior, Bureau of Land Management (BLM) Wild Horse and Burro Advisory Board (Advisory Board) will hold a virtual public meeting due to public health restrictions.

DATES: The Advisory Board will hold a virtual public meeting on Wednesday and Thursday September 23-24, 2020, from 8:00 a.m. to 4:00 p.m. Mountain Time (MT).

ADDRESSES: The virtual meeting will be held via the Zoom Webinar Platform.

Written comments pertaining to the meeting and written statements that will be presented to the Advisory Board may be filed in advance of the meeting through the Advisory Board email address at www.whbadvisoryboard@blm.gov. Please include “Advisory Board Comment” in the subject line of the email.

FOR FURTHER INFORMATION CONTACT: Dorothea Boothe, Acting Wild Horse and Burro Program Coordinator: telephone: (602) 906-5543, email: dboothe@blm.gov. Individuals that use a telecommunications device for the deaf (TDD) may call the Federal Relay Service (FRS) at (800) 877-8339 to contact Ms. Boothe during normal business hours. The FRS is available 24 hours a day, 7 days a week. All responses will be during normal business hours.

SUPPLEMENTARY INFORMATION: The Advisory Board advises the Secretary of the Interior, the BLM Director, the Secretary of Agriculture, and the Chief of the U.S. Forest Service on matters pertaining to the management and protection of wild, free-roaming horses and burros on the nation's public lands. The Advisory Board operates under the authority of 43 CFR 1784.

Advisory Board Public Meeting Agenda

Wednesday, September 23 (8:00 a.m.-4:00 p.m.)

Advisory Board Administrative Items (8:00 a.m.-10:00 a.m.)

Advisory Board Discussion on the Wild Horse and Burro Report to Congress (10:15 a.m.-12:15 p.m.)

Public Comment Period (12:45 p.m.-2:45 p.m.)

Advisory Board Discussion on Fertility Control (3:00 p.m.-4:00 p.m.)

Thursday, September 24 (8:00 a.m.-4:00 p.m.)

Advisory Board Discussion on Range Conditions and Improvements (8:00 a.m.-10:00 a.m.)

Public Comment Period (10:30 a.m.-11:30 a.m.)

Advisory Board Discussion on Burro Management and Draft Recommendations (11:30 a.m.-1:00 p.m.)

Public Comment Period (1:30 p.m.-2:30 p.m.)

Advisory Board Discussion and Finalize Recommendations (Board Vote) (2:30 p.m.-4:00 p.m.)

Agenda may be subject to change.

Advisory Board meetings are open to the public in their entirety and will be live streamed at www.blm.gov/live and through the Zoom Webinar Platform.

The BLM will post the final agenda 2 weeks prior to the meeting online at www.blm.gov/programs/wild-horse-and-burro/get-involved/advisory-board. The public will have an opportunity to provide verbal comments to the Board during the designated times.

Beyond live captioning, any person(s) with special needs, such as an auxiliary aid, interpreting service, assistive listening device, or materials in an alternate format, must notify Ms. Boothe 2 weeks before the scheduled meeting date. It is important to adhere to the 2-week notice to allow enough time to arrange for the auxiliary aid or special service. Live captioning will be available throughout the event on both the Zoom Webinar Platform and the livestream page at www.blm.gov/live.

Public Comment Procedures

The BLM welcomes comments from all interested parties. Members of the public will have three opportunities to make statements (audio only) to the Board regarding the Wild Horse and Burro Program on both Wednesday, September 23, from 12:45 p.m. to 2:45 p.m. MT, and on Thursday, September 24, from 10:30 a.m. to 11:30 a.m. MT and from 1:30 p.m. to 2:30 p.m. MT. In order to accommodate all individuals interested in providing comments, please register with BLM 3 days in advance of the meetings. Individuals that have not registered in advance but would like to offer extemporaneous comments will be permitted if time allows. Information on how to register, login, and participate in the virtual meeting will be announced at least 15 days in advance of the meeting on the BLM website at https: www.blm.gov. Participants using desktops, laptops, smartphones, and other personal digital devices will be able to participate via audio only. Those with phone only access will also be able to participate via a provided phone number and meeting ID. The Advisory Board may limit the length of comments, depending on the number of participants who register in advance. Written comments emailed 3 days prior to the meeting will be provided to the Advisory Board for consideration during the meeting. Please see the ADDRESSES section earlier for the BLM email address and include “Advisory Board Comment” in the subject line of your email. The BLM will record the entire meeting, including the allotted comment time. Comments should be specific and explain the reason for the recommendation(s). Comments supported by quantitative information, studies, or those that include citations and analysis of applicable laws and regulations are most beneficial and more useful, and likely to assist the decision-making process for the management and protection of wild horses and burros.

Before including your address, phone number, email address, or other personal identifying information in your comment, you should be aware that your entire comment—including your personal identifying information—may be made publicly available at any time. While you can ask us in your comment to withhold your personal identifying information from public review, the BLM cannot guarantee that it will be able to do so.

(Authority: 43 CFR 1784.4-2)

Brian St. George,
Deputy Assistant Director, Resources and Planning.

[FR Doc. 2020-17926 Filed 8-14-20; 8:45 am]

BILLING CODE 4310-84-P